DEPARTMENT OF HEALTH AND HUMAN SERVICES

National Institutes of Health

Center for Scientific Review; Amended Notice of Meeting

Notice is hereby given of a change in the meeting of the Pathobiology of Kidney Disease Study Section, June 12, 2008, 8 a.m. to June 13, 2008, 5 p.m., Hotel Deca, 4507 Brooklyn Avenue, NE., Seattle, WA 98105 which was published in the Federal Register on May 2, 2008, 73 FR 24296-24298.

The meeting will be held one day only June 12, 2008. The meeting time and location remain the same. The meeting is closed to the public.

Dated: May 8, 2008.
Jennifer Spaeth,
Director, Office of Federal Advisory Committee Policy.

[FR Doc. E8-10840 Filed 5-15-08; 8:45 am]

BILLING CODE 4140-01-M